DEPARTMENT OF ENERGY

Federal Energy Regulatory Commission

Combined Notice of Filings #1

Take notice that the Commission received the following electric corporate filings:

Docket Numbers: EC18-144-000.

Applicants: Dearborn Industrial Generation, L.L.C.

Description: Application for Approval of Disposition of Assets Pursuant to Section 203 of the Federal Power Act of Dearborn Industrial Generation, L.L.C.

Filed Date: 8/28/18.

Accession Number: 20180828-5062.

Comments Due: 5 p.m. ET 9/18/18.

Take notice that the Commission received the following electric rate filings:

Docket Numbers: ER10-2290-006.

Applicants: Avista Corporation.

Description: Non-Material Change of Status of Avista Corporation.

Filed Date: 8/27/18.

Accession Number: 20180827-5170.

Comments Due: 5 p.m. ET 9/17/18.

Docket Numbers: ER18-280-004.

Applicants: Lee County Generating Station, LLC.

Description: Report Filing: Lee County Refund Report to be effective N/A.

Filed Date: 8/27/18.

Accession Number: 20180827-5144.

Comments Due: 5 p.m. ET 9/17/18.

Docket Numbers: ER18-1702-001.

Applicants: Southwest Power Pool, Inc.

Description: Tariff Amendment: Deficiency Response—1148R24 American Electric Power NITSA and NOA to be effective 5/1/2018.

Filed Date: 8/28/18.

Accession Number: 20180828-5000.

Comments Due: 5 p.m. ET 9/18/18.

Docket Numbers: ER18-2137-001.

Applicants: Big Sky North, LLC.

Description: Tariff Amendment: Master Interconnection Services Agreement to be effective 8/16/2018.

Filed Date: 8/27/18.

Accession Number: 20180827-5176.

Comments Due: 5 p.m. ET 9/17/18.

Docket Numbers: ER18-2320-000.

Applicants: Entergy Texas, Inc.

Description: § 205(d) Rate Filing: ETI-ETEC Wholesale Distribution Service Agreement to be effective 8/1/2018.

Filed Date: 8/27/18.

Accession Number: 20180827-5132.

Comments Due: 5 p.m. ET 9/17/18.

Docket Numbers: ER18-2321-000.

Applicants: Midcontinent Independent System Operator, Inc., Ameren Illinois Company.

Description: § 205(d) Rate Filing: 2018-08-27_SA 3157 Ameren Illinois-Settlers Trail Wind FSA (G931) to be effective 10/27/2018.

Filed Date: 8/27/18.

Accession Number: 20180827-5133.

Comments Due: 5 p.m. ET 9/17/18.

Docket Numbers: ER18-2322-000.

Applicants: Midcontinent Independent System Operator, Inc., Northern States Power Company, a Minnesota corporation.

Description: § 205(d) Rate Filing: 2018-08-27_MISO TOs Revisions to Attachment O Formula Rates to be effective 1/1/2019.

Filed Date: 8/27/18.

Accession Number: 20180827-5145.

Comments Due: 5 p.m. ET 9/17/18.

Docket Numbers: ER18-2323-000.

Applicants: Midcontinent Independent System Operator, Inc.

Description: § 205(d) Rate Filing: 2018-08-27_ITC Companies Revisions to Attachment O Formula Rates to be effective 12/31/9998.

Filed Date: 8/27/18.

Accession Number: 20180827-5146.

Comments Due: 5 p.m. ET 9/17/18.

Docket Numbers: ER18-2324-000.

Applicants: NorthWestern Corporation.

Description: Request for Limited Waiver of Filed Tariff of NorthWestern Corporation.

Filed Date: 8/27/18.

Accession Number: 20180827-5153.

Comments Due: 5 p.m. ET 9/17/18.

Docket Numbers: ER18-2325-000.

Applicants: Sunbury Generation LP.

Description: § 205(d) Rate Filing: Market-Based Rate Notice of Change in Status to be effective 8/28/2018.

Filed Date: 8/28/18.

Accession Number: 20180828-5042.

Comments Due: 5 p.m. ET 9/18/18.

Docket Numbers: ER18-2326-000.

Applicants: Southwest Power Pool, Inc.

Description: § 205(d) Rate Filing: Notice of Cancellation of the Western Area Power Administration JOA to be effective 6/21/2018.

Filed Date: 8/28/18.

Accession Number: 20180828-5043.

Comments Due: 5 p.m. ET 9/18/18.

Docket Numbers: ER18-2327-000.

Applicants: Riverhead Solar Farm, LLC.

Description: Baseline eTariff Filing: Riverhead Solar Farm LLC MBR Tariff to be effective 8/29/2018.

Filed Date: 8/28/18.

Accession Number: 20180828-5086.

Comments Due: 5 p.m. ET 9/18/18.

Docket Numbers: ER18-2328-000.

Applicants: Midcontinent Independent System Operator, Inc.

Description: § 205(d) Rate Filing: 2018-08-28_Interconnection Agreement Amendment to Update Pro Forma Language to be effective 2/21/2018.

Filed Date: 8/28/18.

Accession Number: 20180828-5097.

Comments Due: 5 p.m. ET 9/18/18.

Docket Numbers: ER18-2329-000.

Applicants: PJM Interconnection, L.L.C.

Description: Tariff Cancellation: Notice of Cancellation of WMPA SA No. 4843; Queue AC2-076 to be effective 8/27/2018.

Filed Date: 8/28/18.

Accession Number: 20180828-5112.

Comments Due: 5 p.m. ET 9/18/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 28, 2018.
Nathaniel J. Davis, Sr.,
Deputy Secretary.

[FR Doc. 2018-19137 Filed 9-4-18; 8:45 am]

BILLING CODE 6717-01-P